DEPARTMENT OF ENERGY

Federal Energy Regulatory Commission

[Docket No. CP25-37-000]

Transwestern Pipeline Company, LLC; Notice of Availability of the Environmental Assessment for the Proposed WT-0 Compressor Station Project

The staff of the Regulatory Commission (FERC or Commission) has prepared an environmental assessment (EA) for the WT-0 Compressor Station Project, proposed by Transwestern Pipeline Company, LLC (Transwestern) in the above-referenced docket.¹ On December 20, 2024, Transwestern filed an application in Docket No. CP25-37-000 requesting a Certificate of Public Convenience and Necessity pursuant to Section 7(c) of the Natural Gas Act to construct, own, operate, and maintain a new compressor station in Chaves County, New Mexico. According to Transwestern, the proposed WT-0 Compressor Station Project (Project) would provide about 80,000 dekatherms per day of new firm transportation service, including receipts of natural gas in Transwestern's West Texas Lateral Central Zone and deliveries on the Transwestern Panhandle Lateral.

¹ For tracking purposes under the National Environmental Policy Act, the unique identification number for documents relating to this environmental review is EAXX-019-20-000-1742295781.

The EA assesses the potential environmental effects of the construction and operation of the Project in accordance with the requirements of the National Environmental Policy Act of 1969 (NEPA). FERC staff concludes that approval of the proposed Project would not constitute a major federal action significantly affecting the quality of the human environment.

The U.S. Bureau of Land Management (BLM) participated as a cooperating agency in the preparation of the EA. Cooperating agencies have jurisdiction by law or special expertise with respect to resources potentially affected by the proposal, and participate in the NEPA analysis. The BLM will adopt and use the EA, along with other supporting documentation, to consider the issuance of a Mineral Leasing Act right-of-way grant for the Project, as the proposed site is on federal lands managed by the BLM.

The Project would consist of the following facilities in Chaves County, New Mexico:

• a new compressor station including one new 13,220 horsepower Solar Mars 90 natural gas turbine-driven compressor, one backup generator, and associated buildings and appurtenances;

• metering facilities, including an inlet filter separator and fuel gas measurement skid;

• tie-in to Transwestern's existing 24-inch-diameter dual lateral pipeline in its existing corridor; and

• a new, permanent access road off Harriet Road extending into the Project site.

The Commission mailed a copy of the Notice of Availability of the EA to federal, state, and local government representatives and agencies; elected officials; environmental and public interest groups; Native American tribes; potentially affected landowners and other interested individuals and groups; and newspapers and libraries in the Project area. The EA is only available in electronic format. It may be viewed and downloaded from the FERC's website (www.ferc.gov), on the natural gas environmental documents page (www.ferc.gov/industries-data/natural-gas/environment/environmental-documents). Click on the eLibrary link (www.elibrary.ferc.gov/eLibrary/search), select “General Search” and enter the docket number in the “Docket Number” field, excluding the last three digits (i.e., CP25-37). Be sure you have selected an appropriate date range. For assistance, please contact FERC Online Support at FercOnlineSupport@ferc.gov or toll free at (866) 208-3676, or for TTY, contact (202) 502-8659. Be sure you have selected an appropriate date range.

The EA is not a decision document. It presents Commission staff's independent analysis of the environmental issues for the Commission to consider when addressing the merits of all issues in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on this project, it is important that we receive your comments in Washington, DC on or before 5:00 p.m. Eastern Time on September 2, 2025.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the Commission. Be sure to reference the project docket number (CP25-37-000) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 Code of Federal Regulations 385.214(b)(3) and (d)) and show good cause why the time limitation should be waived. Motions to intervene are more fully described at https://www.ferc.gov/how-intervene.

Additional information about the Project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: August 1, 2025.
Debbie-Anne A. Reese,
Secretary.

[FR Doc. 2025-14916 Filed 8-5-25; 8:45 am]

BILLING CODE 6717-01-P